DEPARTMENT OF TRANSPORTATION

Federal Aviation Administration

Notice of Intent To Rule on Application PFC No. 02-04-U-00-A00 To Use the Revenue From a Passenger Facility Charge (PFC) at Altoona-Blair County Airport, Altoona, PA

AGENCY: Federal Aviation Administration (FAA), DOT.

ACTION: Notice of intent to rule on application.

SUMMARY: The FAA proposes to rule and invites public comment on the application to use the revenue from a PFC at Altoona-Blair County Airport under the provisions of the Aviation Safety and Capacity Expansion Act of 1990 (Title IX of the Omnibus Budget Reconciliation Act of 1990) (Pub. L. 101-508) and part 158 of the Federal Aviation Regulations (14 CFR part 158).

DATES: Comments must be received on or before September 19, 2002.

ADDRESSES: Comments on this application may be mailed or delivered in triplicate to the FAA at the following address: Ms. Sharon Daboin/Manager Har-Ado FAA, Airports District Office, 3905 Hartzdale Dr, Suite #508, Camp Hill, PA 17011

In addition, one copy of any comments submitted to the FAA must be mailed or delivered to Charles Pillar, Airport Manager of the Blair County Airport Authority at the following address: Blair County Airport Authority, 2 Airport Drive, Martinsburg, PA 16662.

Air carriers and foreign air carriers may submit copies of written comments previously provided to the Blair County Airport Authority under § 158.23 of part 158.

FOR FURTHER INFORMATION CONTACT: Sharon Daboin/Manager HAR-ADO Airports District Office, 3905 Hartzdale Drive, Suite 508, (717) 730-2830. The application may be reviewed in person at this same location.

SUPPLEMENTARY INFORMATION: The FAA proposes to rule and invites public comment on the application to use the revenue form a PFC at Altoona-Blair County Airport under the provisions of the Aviation Safety and Capacity Expansion Act of 1990 (Title IX of the Omnibus Budget Reconciliation Act of 1990) (Pub. L. 101-508) and part 158 of the Federal Aviation Regulations (14 CFR part 158).

On July 1, 2002, the FAA determined that the application to use the revenue from a PFC submitted by Blair County Airport Authority was substantially complete within the requirements of § 158.25 of part 158. The FAA will approve or disapprove the application, in whole or in part, no later than September 28, 2002.

The following is a brief overview of the application.

PFC Application No.: PFC No. 02-04-U-00-AOO.

Level of the proposed PFC: $3.00.

Proposed charge effective date: July 1, 2002.

Proposed charge expiration date: March 1, 2003.

Total estimated PFC revenue: $135,340.

Brief description of proposed project(s):

—Purchase of Avigation Easements and topping/removing of trees and brush penetrating runway approach surfaces, runway primary surfaces and runway OFZ's.

—Fourteen Avigation easements will be acquired totaling approximately 13 acres. These easements will be located along the right and left sides of the approach to Runway 20. See the attached easement acquisition and obstruction plans.

Class or classes of air carriers, which the public agency has requested, not be required to collect PFCs: No Class of Carriers will be excluded from collection of PFC.

Any person may inspect the application in person at the FAA office listed above under FOR FURTHER INFORMATION CONTACT and at the FAA regional airports office located at: Fitzgerald Federal Building #111, Airports Division, AEA-610, John F. Kennedy International Airport, Jamaica, New York, 11430.

In addition, any person may, upon request, inspect the application, notice and other documents germane to the application in person at the Blair County Airport Authority.

Issued in HBG, PA on July 1, 2002.
Sharon Daboin,
Manager, HAR-ADO, Eastern Region.

[FR Doc. 02-21141 Filed 8-19-02; 8:45 am]

BILLING CODE 4910-13-M